DEPARTMENT OF AGRICULTURE

Rural Business-Cooperative Service

[Docket No. RBS-21-Business-0010]

Request for Information and Notice of Stakeholder Listening Session on a Rural Energy Pilot Program

AGENCY: Rural Business-Cooperative Service, USDA.

ACTION: Request for information (RFI) and Notice of Stakeholder listening session for a Rural Energy Pilot Program.

SUMMARY: The Rural Business-Cooperative Service (RBCS) is requesting public input from interested parties and hosting a listening session on a new Rural Energy Pilot Program. The RBCS is exploring options to provide financial assistance for rural communities to further develop renewable energy; as authorized in The Consolidated Appropriations Act, 2021. Additionally, RBCS requests input regarding the purposes, goals, participants, technologies, and community impacts of the Rural Energy Pilot Program.

DATES: Interested persons are invited to submit comments on or before 11:59 p.m. Eastern Time, April 29, 2021. Comments received after the posted deadline will not be considered, regardless of postmark.

Listening session will be held on:

Thursday, April 22, 2021, 2 p.m.-4:30 p.m. EDT virtually at, https://attendee.gotowebinar.com/register/5335247546266883854

ADDRESSES: Comments submitted in response to this notice may be submitted online via the Federal eRulmaking Portal. Go to http://www.regulations.gov and search for the Docket ID RBS-21-Business-0010. Follow the online instructions for submitting comments. All comments received will be posted without change and will be publicly available on regulations.gov.

FOR FURTHER INFORMATION CONTACT: Anthony Crooks, USDA, Rural Development, telephone (202) 205-9322, email EnergyPrograms@usda.gov.

SUPPLEMENTARY INFORMATION:

Overview

The Consolidated Appropriations Act, 2021 (Pub. L. 116-260) authorized and appropriated $10 million to remain available until expended for the Secretary of Agriculture to carry out a pilot program to provide financial assistance for rural communities to further develop renewable energy. This RFI and Stakeholder Listening Session seek information from the public to help develop options for the Rural Energy Pilot Program to support the Nation's critical energy needs for climate change while advancing environmental justice, racial equity, and economic opportunity through the development and deployment of distributed energy technologies, innovations, and/or solutions.

Public comment is requested on the following topics in particular:

• Program purposes, goals, metrics, and standards;

• Eligible applicants, participants, partners including but not limited to communities, residencies, industry, and commercial entities;

• Eligible technologies including but not limited to generation, storage, controller, and grid;

• Potential impact of the pilot program and renewable energy systems more broadly on each of the following: Environmental justice, racial equity, and economic opportunity;

• Options to measure and maximize the benefits of renewable energy systems for environmental justice, racial equity, and economic opportunity in rural areas.

This effort will build on prior investments and experience gained through past small-scale energy solutions, social justice reforms, and climate change mitigation programs.

Through the RFI and listening session process, the agency is seeking input from the public, including but not limited interested individuals, prospective participants, prospective partners/stakeholders, communities, commercial enterprises, industries, and/or technology providers.

The RFI and the listening session are intended to identify gaps and vulnerabilities that may benefit from the attention of the Federal government as well as areas to promote or protect through the Rural Energy Pilot Program. The information can include suggestions on those areas of greatest priority as well as past or future Federal government efforts to develop and implement programs to build, promote, and sustain distributed energy solutions and otherwise advance environmental justice, racial equity, and economic opportunity. The public input provided in response to the RFI and listening session will inform USDA as well as private sector, public bodies, and other stakeholders with interest in and expertise relating to the development and deployment of renewable energy systems.

Addressing the climate crisis, ensuring racial equity, and rebuilding the rural economy are among the agency's top priorities, which respondents are encouraged to consider in their reply. USDA is dedicated to meeting the challenges facing rural America and building back better, stronger, and more resilient and equitably than ever before.

Instructions

Response to this notice is voluntary. Each individual or institution is requested to submit only one response as directed in the ADDRESSES section of this notice. Submission must not exceed 10 pages in 12 point or larger font, with a page number provided on each page. Responses should include the name of the person(s) or organization(s) filing the comment.

Comments containing references, studies, research, and other empirical data that are not widely published should include copies or electronic links of the referenced materials.

Comments containing profanity, vulgarity, threats, or other inappropriate language or content will not be considered. Comments submitted in response to this notice are subject to Freedom of Information Act (FOIA). Responses to this notice may also be posted, without change, on a Federal website. Therefore, we request that no business proprietary information, copyrighted information, or personally identifiable information be submitted in response to this notice. In accordance with FAR 52-215-3(b), responses to this notice are not offers and cannot be accepted by the Government to form a binding contract. Additionally, the U.S. Government will not pay for response preparation or for the use of any information contained in the response.

To inform the Federal government's decision-making and establish the Nation's guiding principles in the promotion of the Rural Energy Pilot Program, USDA now seeks public input on how U.S. Government action might appropriately support the expansion of a nationwide effort. To that end, responders are specifically requested to answer one or more of the following questions in their submissions.

Consortia responses are also encouraged.

1. How might distributed energy technologies, innovations, and/or solutions be deployed to advance environmental justice, racial equity, and economic opportunity?

2. What specific distributed energy technologies, innovations, and/or solutions are available or have the potential to advance environmental justice, racial equity, and economic opportunity through their deployment and/or development?

3. What type of assistance or incentive (made available through a Rural Energy Pilot Program) would encourage the development and deployment of such distributed energy technologies, innovations, and/or solutions?

4. How should USDA measure, assess, and analyze the impacts of distributed energy solutions on environmental justice, racial equity, and economic opportunity?

5. Who should be eligible to receive such assistance?

6. What types of technology and/or infrastructure should be eligible under such a Rural Energy Pilot Program?

a. Generation;

b. Storage;

c. Controller/smart grid.

7. Should a Rural Energy Pilot Program incentivize efficiency, resilience, or some other value?

8. Should the Rural Energy Pilot Program include minimum standards for equipment? Or a recognized standard of development such as commercially available?

9. What types of efforts have proven to be effective to promote the deployment of distributed energy solutions or innovations that advance or have the potential to advance environmental justice, racial equity, and economic opportunity?

a. What are the technologies associated with these efforts?

b. Why and how do these technologies advance of environmental justice, racial equity, and economic opportunity?

c. Should there be a minimum investment requirement?

10. If cost-sharing is required, what minimum level of cost-share (owner contribution) should be required of recipients of funding? What would you consider to be the most cost-effective level of cost-share while also supporting the objective of advancing environmental justice, racial equity, and economic opportunity?

11. What programmatic or administrative structures, policies, incentives, or requirements will support the advancement of environmental justice, racial equity, and economic opportunity through the Rural Energy Pilot Program? What structures, policies, incentives, or requirements might obstruct or otherwise undermine its advancement?

12. What programmatic or administrative and other barriers exist that may limit participation in the Rural Energy Pilot Program or the availability of program benefits? What should be done to ensure equitable program participation by those who would otherwise be unlikely to apply? What specific actions could USDA take to guide a transformation and/or expansion of a Rural Energy Pilot Program, in both the short- and long-term?

13. Given the objective, how should USDA measure the outcomes of the Rural Energy Pilot Program?

14. To what extent should current investments be required to accommodate future, anticipated technologies?

15. Please provide feedback on the effectiveness of any known distributed energy or rural energy pilot program of which you are aware.

16. From your perspective, how much post-award reporting is reasonable for recipients of funding?

Non-Discrimination Statement

In accordance with Federal civil rights law and U.S. Department of Agriculture (USDA) civil rights regulations and policies, the USDA, its agencies, offices, and employees, and institutions participating in or administering USDA Programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Persons with disabilities who require alternative means of communication for program information (e.g., Braille, large print, audiotape, American Sign Language, etc.) should contact the responsible Agency or USDA's TARGET Center at (202) 720-2600 (voice and TTY) or contact USDA through the Federal Relay Service at (800) 877-8339. Additionally, program information may be made available in languages other than English.

To file a program discrimination complaint, complete the USDA Program Discrimination Complaint Form, AD-3027, found online at https://www.usda.gov/oascr/how-to-file-a-program-discrimination-complaint and at any USDA office or write a letter addressed to USDA and provide in the letter all of the information requested in the form. To request a copy of the complaint form, call (866) 632-9992. Submit your completed form or letter to USDA by:

(1) Mail: U.S. Department of Agriculture, Office of the Assistant Secretary for Civil Rights, 1400 Independence Avenue SW, Washington, DC 20250-9410; or

(2) Email: OAC@usda.gov

USDA is an equal opportunity provider, employer, and lender.

Mark Brodziski,
Acting Administrator, Rural Business-Cooperative Service.

[FR Doc. 2021-06489 Filed 3-29-21; 8:45 am]

BILLING CODE 3410-XY-P